Title 3—

The President

Proclamation 10529 of March 3, 2023

National Consumer Protection Week, 2023

By the President of the United States of America

A Proclamation

Families deserve to be protected from the fraudsters and scammers who often prey on the most vulnerable among us, draining real money from the pockets of hard-working Americans. This National Consumer Protection Week, we urge every American to learn about their legal rights as consumers and the resources available to defend those rights. Consumer protection is critical to building a healthy economy from the bottom up and middle out, and it is a question of basic fairness and justice.

After a few tough years, America is in the midst of a historic economic recovery—growth is up, wages are up, and unemployment is at a 50-year low. Manufacturing is booming, and more than 10 million Americans have applied to start their own businesses—the most in any 2 years on record. As people finally start to feel like they have a little bit of breathing room, we cannot let fraud, cybercrimes, or unfair business practices interrupt the progress we have made.

My Administration is taking historic action to make sure that when American consumers enter the marketplace, they get fair deals from honest brokers. Shortly after I took office, I signed an Executive Order to promote fair competition across our economy—because when companies have to compete on a fair, transparent playing field, it lowers prices for consumers, raises wages for workers, and makes our whole country more innovative and productive. The Department of Justice and Federal Trade Commission (FTC) have undertaken efforts to address anticompetitive conduct that hurts consumers and workers, including preventing further consolidation in the shipping and publishing industries and proposing a ban on non-compete agreements. As I have long said: Capitalism without competition is not capitalism; it is exploitation.

As I said in my State of the Union Address, we are cracking down on those unfair, hidden “junk fees” like bank overdraft charges, cell phone cancellation fees, or surprise ticketing costs that sneak up on consumers, hiding the full price of what they are buying or making it much too hard to switch to a cheaper product. For example, the Federal Communications Commission (FCC) finalized rules that would require cable and internet providers to list fees and services up front, on clear, easy-to-read labels. The Consumer Financial Protection Bureau (CFPB) is pressing banks and credit card companies to get rid of surprise overdraft charges, bounced-check charges, and unfair late fees. The CFPB has also proposed new rules to cut excessive credit card late fees from roughly $30 to $8. The Department of Transportation helped convince major airlines to rebook trips for free if they cancel a flight and issued a notice encouraging airlines to seat children next to an accompanying adult at no additional cost. And the FTC has pushed electronics makers to let consumers choose where to get their products fixed, saving on repair costs. These things matter—they add up fast, and when we act together, American consumers will save billions of dollars every year.

Meanwhile, the FTC is going after student loan scams, mortgage scams, price gouging, and identity theft and is working with law enforcement to crack down on other predatory practices. The FCC is working to stop today's scourge of illegal robocalls by sharing call-blocking tools and working to reduce spoofing by requiring phone companies to implement caller ID authentication.

To protect online privacy, the FTC is considering new rules that would limit how much personal data companies can collect from consumers and sell to third parties. The CFPB is also considering a rule to give consumers more control over their personal financial data, which in turn gives them more freedom over where they choose to put their money.

Every American has the power to stand up for their own consumer rights and to help protect their communities and loved ones. We urge everyone to visit consumer.ftc.gov to learn more about today's risks and the resources available for fighting them and to report any suspected fraud. To report issues with a consumer financial product, like aggressive debt collection, inaccurate credit reporting, or unfair medical billing, visit consumerfinance.gov/complaint.

NOW, THEREFORE, I, JOSEPH R. BIDEN JR., President of the United States of America, by virtue of the authority vested in me by the Constitution and the laws of the United States, do hereby proclaim March 5, 2023, through March 11, 2023, as National Consumer Protection Week. I call upon government officials, industry leaders, and advocates across the Nation to share information about consumer protection and provide our citizens with information about their rights as consumers.

IN WITNESS WHEREOF, I have hereunto set my hand this third day of March, in the year of our Lord two thousand twenty-three, and of the Independence of the United States of America the two hundred and forty-seventh.

[FR Doc. 2023-04838

Filed 3-7-23; 8:45 am]

Billing code 3395-F3-P